DEPARTMENT OF THE INTERIOR

Fish and Wildlife Service

[FWS-R2-ES-2018-N168; FXES11140200000-190-FF02ENEH00]

Draft Environmental Assessment and Draft Habitat Conservation Plan; Davis Ranch, Bexar County, Texas

AGENCY: Fish and Wildlife Service, Interior.

ACTION: Notice of availability; request for public comments.

SUMMARY: We, the U.S. Fish and Wildlife Service (Service), make available the draft environmental assessment and habitat conservation plan for development of a 724-acre property in Bexar County, Texas. The Davis McCrary Property Trust has applied to the Service for an incidental take permit (ITP) under the Endangered Species Act. The requested ITP would authorize incidental take of the federally endangered golden-cheeked warbler that could result from activities associated with otherwise lawful activities, including commercial and residential development on the property as a result of vegetation clearing, earth-moving activities, and construction of structures.

DATES: To ensure consideration, written comments must be received or postmarked on or before April 17, 2019.

ADDRESSES: Accessing Documents:

Internet: dEA, HCP, and ITP application: You may obtain electronic copies of all three of the documents on the Service's website at http://www.fws.gov/southwest/es/AustinTexas/.

U.S. Mail: You may obtain the documents at the following addresses. In your request for documents, please reference Davis Ranch HCP.

• dEA and HCP: A limited number of CD-ROM and printed copies of the dEA and HCP are available, by request, from Mr. Adam Zerrenner, Austin Ecological Services Field Office, 10711 Burnet Road, Suite 200, Austin, TX 78758-4460; telephone 512-490-0057; fax 512-490-0974.

• ITP application: The ITP application is available by mail from the Regional Director, U.S. Fish and Wildlife Service, P.O. Box 1306, Room 6034, Albuquerque, NM 87103.

In-Person: dEA and HCP: Copies of the dEA and HCP are available for public inspection and review, by appointment (telephone 512-490-0057) and written request only, between the hours of 8 a.m. to 4:30 p.m. at the following locations:

• U.S. Fish and Wildlife Service, 500 Gold Avenue SW, Room 6034, Albuquerque.

• U.S. Fish and Wildlife Service, 10711 Burnet Road, Suite 200, Austin, TX 78758; via phone at 512-490-0057; or via the Federal Relay Service at 800-877-8339.

SUPPLEMENTARY INFORMATION: We, the U.S. Fish and Wildlife Service (Service), make available the draft Environmental Assessment (dEA) and the Davis Ranch Habitat Conservation Plan (HCP) for development of the 724-acre property in Bexar County, Texas (permit area). The Davis McCrary Property Trust (applicant) has applied to the Service for an incidental take permit (ITP; TE 204410 under section 10(a)(1)(B) of the Endangered Species Act of 1973, as amended (ESA; 16 U.S.C. 1531 et seq.). The requested ITP, which would be in effect for a period of 30 years, if granted, would authorize incidental take of the federally endangered golden-cheeked warbler (Setophaga (=Dendroica) chrysoparia) (covered species). The proposed incidental take would result from activities associated with otherwise lawful activities, including commercial and residential development on the 724-acre ranch in Bexar County, Texas, as a result of clearing of vegetation, earth-moving activities, and construction of structures (covered activities).

We make available the dEA for the Davis Ranch HCP and the associated HCP. In accordance with the requirements of the National Environmental Policy Act of 1969 (NEPA; 42 U.S.C. 4321 et seq.), we advise the public that:

1. We have gathered the information necessary to determine impacts and formulate alternatives for the dEA related to potential issuance of an ITP to the applicant; and

2. The applicant has developed a HCP as part of the application for an ITP, which describes the measures the applicant has agreed to take to minimize and mitigate the impacts of incidental take of the covered species to the maximum extent practicable pursuant to section 10(a)(1)(B) of the ESA.

The applicant has applied for an ITP that would be in effect for 30 years, if granted, and would authorize incidental take of the federally endangered golden-cheeked warbler. As described in the HCP, the proposed incidental take would result from activities associated with otherwise lawful activities, including commercial and residential development on the 724-acre ranch in Bexar County, Texas, as a result of covered activities. The dEA considers the direct, indirect, and cumulative effects of implementation of the HCP, including the measures that will be implemented to minimize and mitigate, to the maximum extent practicable, the impacts of the incidental take of the covered species.

Proposed Action

The proposed action involves the issuance of an ITP by the Service for the covered activities in the permit area, pursuant to section 10(a)(1)(B) of the Act. The ITP would cover incidental take of the covered species associated with construction of commercial and residential development within the permit area.

The requested term of the permit is 30 years. To meet the requirements of a section 10(a)(1)(B) ITP, the applicant has developed and proposes to implement its HCP. The HCP describes the conservation measures the applicant has agreed to undertake to minimize and mitigate, to the maximum extent practicable, the impacts of the incidental take of the covered species, and ensures that incidental take will not appreciably reduce the likelihood of the survival and recovery of the covered species in the wild.

At full implementation, the applicant would mitigate up to approximately 1,176 acres in an approved golden-cheeked warbler habitat conservation bank.

Alternatives

We are considering one alternative to the proposed action as part of this process:

No Action: No ITP would be issued. Under a No Action alternative, the Service would not issue the requested ITP, and the applicant would either not construct the development or would construct the development avoiding all impacts to the golden-cheeked warbler. Therefore, the applicant would not implement the conservation measures described in the HCP.

Public Availability of Comments

Written comments we receive become part of the public record associated with this action. Before including your address, phone number, email address, or other personal identifying information (PII) in your comment, you should be aware that your entire comment—including your PII—may be made publicly available at any time. While you can request in your comment that we withhold your PII from public review, we cannot guarantee that we will be able to do so. All submissions from organizations or businesses, and from individuals identifying themselves as representatives or officials of organizations or businesses, will be made available for public disclosure in their entirety.

Authority

We provide this notice under section 10(c) of the ESA (16 U.S.C. 1531 et seq.), its implementing regulations (50 CFR 17.22), and the National Environmental Policy Act (42 U.S.C. 4321 et seq.) and it's implementing regulations (40 CFR 1506.6).

Dated: March 5, 2019.
Amy Lueders,
Regional Director, Southwest Region.

[FR Doc. 2019-05039 Filed 3-15-19; 8:45 am]

BILLING CODE 4333-15-P